DEPARTMENT OF LABOR

Employment and Training Administration

[TA-W-65,361]

Schaeffler Group USA, Inc., Ina Division, Cheraw, SC; Notice of Termination of Investigation

Pursuant to Section 221 of the Trade Act of 1974, as amended, an investigation was initiated on February 24, 2009 in response to a petition filed on behalf of workers of Schaeffler Group USA, Ina Division, Cheraw, South Carolina.

The petitioner has requested that the petition be withdrawn. Consequently, the investigation has been terminated.

Signed at Washington, DC, this 30th day of March 2009.
Linda G. Poole,
Certifying Officer, Division of Trade Adjustment Assistance.

[FR Doc. E9-10223 Filed 5-4-09; 8:45 am]

BILLING CODE 4510-FN-P